DEPARTMENT OF COMMERCE

International Trade Administration

[A-570-126]

Non-Refillable Steel Cylinders From the People's Republic of China: Final Results of Antidumping Duty Administrative Review and Final Determination of No Shipments; 2020-2022

AGENCY: Enforcement and Compliance, International Trade Administration, Department of Commerce.

SUMMARY: The U.S. Department of Commerce (Commerce) determines that certain producers and/or exporters made sales of non-refillable steel cylinders (non-refillable cylinders) from the People's Republic of China (China) at less than normal value, and one company had no shipments of subject merchandise during the period of review (POR), October 30, 2020, through April 30, 2022.

DATES: Applicable December 7, 2023.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On June 6, 2023, Commerce published the Preliminary Results.¹ We invited interested parties to comment on the Preliminary Results.² For events subsequent to the Preliminary Results, see the Issues and Decision Memorandum.³ On September 22, 2023, in accordance with section 751(a)(3)(A) of the Tariff Act of 1930, as amended (the Act), Commerce extended the deadline for these final results until December 1, 2023.⁴

¹ See Non-Refillable Steel Cylinders from the People's Republic of China: Preliminary Results and Preliminary Determination of No Shipments of the Antidumping Duty Administrative Review; 2020-2022, 88 FR 37024 (June 6, 2023) (Preliminary Results), and accompanying Preliminary Decision Memorandum.

² See Preliminary Results, 88 FR at 37025.

³ See Memorandum, “Issues and Decision Memorandum for the Final Results of the Antidumping Duty Administrative Review of Certain Non-Refillable Steel Cylinders from the People's Republic of China; 2020-2022,” dated concurrently with, and hereby adopted by, this notice (Issues and Decision Memorandum).

⁴ See Memorandum, “Extension of Deadline for Final Results of Antidumping Duty Administrative Review,” dated September 22, 2023.

Scope of the Order ⁵

⁵ See Certain Non-Refillable Steel Cylinders from the People's Republic of China: Amended Final Antidumping Duty Determination and Antidumping Duty and Countervailing Duty Orders, 86 FR 25839 (May 11, 2021) (Order).

The products covered by this Order are certain seamed (welded or brazed), non-refillable steel cylinders meeting the requirements of, or produced to meet the requirements of, U.S. Department of Transportation (USDOT) Specification 39, TransportCanada Specification 39M, or United Nations pressure receptacle standard ISO 11118. A full description of the scope of the Order is provided in the Issues and Decision Memorandum.

Analysis of Comments Received

All issues raised by interested parties in briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on our analysis of the comments received from interested parties regarding our Preliminary Results, we made certain changes to the margin calculation for mandatory respondent Wuyi Xilinde Machinery Manufacture Co., Ltd. (Wuyi Xilinde), and consequently, the rate assigned to the non-examined separate rate respondents.⁶ For detailed information, see the Issues and Decision Memorandum.

⁶ See Memoranda, “Final Results Analysis Memorandum for Wuyi Xilinde Machinery Manufacture Co., Ltd.,” dated concurrently with this notice; and “Surrogate Values for the Final Results,” dated concurrently with this notice.

Final Determination of No Shipments

In the Preliminary Results, we preliminarily determined that Zhejiang Kin-Shine Technology Co., Ltd. (Zhejiang Kin-Shine) had no shipments of subject merchandise to the United States during the POR.⁷ No party filed comments with respect to this preliminary determination, and we received no information to contradict it. Therefore, we continue to find that Zhejiang Kin-Shine had no shipments of subject merchandise during the POR and will issue appropriate liquidation instructions that are consistent with our “automatic assessment” instructions for these final results.⁸

⁷ See Preliminary Results, 88 FR at 37025.

⁸ See Non-Market Economy Antidumping Proceedings: Assessment of Antidumping Duties, 76 FR 65694 (October 24, 2011).

Separate Rate Respondents

In our Preliminary Results, we determined that Wuyi Xilinde, and two other companies demonstrated their eligibility for separate rates.⁹ We received no information or arguments since the issuance of the Preliminary Results that provide a basis for reconsideration of these determinations. Therefore, for these final results, we continue to find that the two companies listed in the table in the “Final Results” section of this notice are each eligible for a separate rate, in addition to Wuyi Xilinde.

⁹ See Preliminary Results, 88 FR at 37025.

Rate for Non-Examined Separate Rate Respondents

Under section 735(c)(5)(A) of the Act, Commerce's usual practice in determining the rate for separate rate respondents not selected for individual examination is to average the weighted-average dumping margins for the selected companies, excluding rates that are zero, de minimis, or based entirely on facts available.¹⁰ In the Preliminary Results,¹¹ consistent with Commerce's practice,¹² we assigned the non-examined, separate rate companies the margin calculated for Wuyi Xilinde, which was not zero, de minimis, or based entirely on facts available. No parties commented on the methodology for calculating this separate rate. As such, for these final results, we have assigned the 87.26 percent weighted-average dumping margin calculated for Wuyi Xilinde to the two non-examined respondents which qualify for a separate rate in this review, consistent with Commerce's practice and section 735(c)(5)(A) of the Act.

¹⁰ See, e.g., Longkou Haimeng Mach. Co. v. United States, 581 F. Supp. 2d 1344, 1357-60 (CIT 2008) (affirming Commerce's determination to assign a 4.22 percent dumping margin to the separate rate respondents in a segment where the three mandatory respondents received dumping margins of 4.22 percent, 0.03 percent, and zero percent, respectively).

¹¹ See Preliminary Results, 88 FR at 37025.

¹² See, e.g., Certain Kitchen Appliance Shelving and Racks from the People's Republic of China: Final Determination of Sales at Less Than Fair Value, 74 FR 36656, 36660 (July 24, 2009).

Final Results of Review

We determine that the following weighted-average dumping margins exist for the period October 30, 2020, through April 30, 2022:

Exporter | Weighted-average dumping margin (percent)
Wuyi Xilinde Machinery Manufacture Co., Ltd | 87.26
Ningbo Eagle Machinery & Technology Co., Ltd | 87.26
Sanjiang Kai Yuan Co. Ltd | 87.26

Disclosure

We intend to disclose to interested parties the calculations and analysis performed for these final results within five days of the date of the publication of this notice in the Federal Register in accordance with 19 CFR 351.224(b).

Assessment Rates

Pursuant to section 751(a)(2)(C) of the Act and 19 CFR 351.212(b), Commerce will determine, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For Wuyi Xilinde, which has a final weighted-average dumping margin that is not zero or de minimis (i.e., less than 0.5 percent), we will calculate importer-specific assessment rates for that respondent, in accordance with 19 CFR 351.212(b)(1). Pursuant to 19 CFR 351.212(b)(1), where the respondent reported the entered value of its U.S. sales, we will calculate importer-specific ad valorem assessment rates based on the ratio of the total amount of dumping calculated for the examined sales to the total entered value of the sales for which entered value was reported. Where the respondent did not report entered value, we will calculate importer-specific per-unit duty assessment rates based on the ratio of the total amount of antidumping duties calculated for the examined sales to the total quantity of those sales. To determine whether an importer-specific per-unit assessment rate is de minimis in accordance with 19 CFR 351.106(c)(2), we will also calculate an importer-specific ad valorem ratio based on estimated entered values.

For the respondents which were not selected for individual examination in this administrative review, and which qualified for a separate rate, the assessment rate will be equal to the rate assigned to them for these final results (i.e., 87.26 percent).

Pursuant to a refinement in our non-market economy practice, for sales that were not reported in the U.S. sales data submitted by companies individually examined during this review, we will instruction CBP to liquidate entries associated with those sales at the rate for the China-wide entity. Furthermore, where we found that an exporter under review had no shipments of the subject merchandise, any suspended entries that entered under that exporter's case number (i.e., at that exporter's cash deposit rate) will be liquidated at the rate for the China-wide entity.

Cash Deposit Requirements

The following cash deposit requirements for estimated antidumping duties will be effective for all shipments of subject merchandise entered, or withdrawn from warehouse, for consumption on or after the publication date of the final results of this administrative review, as provided by section 751(a)(2)(C) of the Act: (1) the cash deposit rate for the companies listed above will be equal to each company's weighted-average dumping margin established in the final results of this administrative review; (2) for previously-investigated or reviewed Chinese and non-Chinese exporters not listed above that have separate rates, the cash deposit rate will continue to be the exporter-specific rate published for the most-recently completed segment of this proceeding in which they were reviewed; (3) for all Chinese exporters of subject merchandise that have not been found to be entitled to a separate rate, the cash deposit rate will be equal to the weighted-average dumping margin for the China-wide entity (i.e., 101.67 percent); and (4) for all non-Chinese exporters of subject merchandise which have not received their own separate rate, the cash deposit rate will be the rate applicable to the Chinese exporter(s) that supplied the non-Chinese exporter. These cash deposit requirements, when imposed, shall remain in effect until further notice.

Notification to Importers

This notice also serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

We are issuing and publishing these final results of administrative review in accordance with sections 751(a)(1) and 777(i) of the Act, and 19 CFR 351.221(b)(5).

Dated: November 30, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Selection of Surrogate Financial Statements

Comment 2: Whether to Include the Surrogate Financial Expense Ratio in Wuyi

Xilinde's Normal Value (NV)

Comment 3: Valuation of Certain Factors of Production (FOP)

Comment 4: Treatment of Carton Inputs as Packing Expense or Packaging Cost

VI. Recommendation

[FR Doc. 2023-26860 Filed 12-6-23; 8:45 am]

BILLING CODE 3510-DS-P